DEPARTMENT OF ENERGY

Office of Electricity Delivery and Energy Reliability; Notice of Reestablishment of the Electricity Advisory Committee

Pursuant to Section 14(a)(2)(A) of the Federal Advisory Committee Act, 5 U.S.C., App., and in accordance with Title 41 of the Code of Federal Regulations, Section 102-3.65, and following consultation with the Committee Management Secretariat, General Services Administration, notice is hereby given that the Electricity Advisory Committee has been reestablished for a two-year period.

The Committee will provide advice to the Office of Electricity Delivery and Energy Reliability (DOE), on its programs to modernize the nation's electric power system. The Secretary of Energy has determined that reestablishment of the Electricity Advisory Committee is essential to the conduct of the Department's business and is in the public interest in connection with the performance of duties imposed upon the Department of Energy by law. The Committee will continue to operate in accordance with the provisions of the Federal Advisory Committee Act (Pub. L. 92-463), the General Services Administration Final Rule on Federal Advisory Committee Management, and other directives and instructions issues in implementation of those Acts.

FOR FURTHER INFORMATION CONTACT: Ms. Rachel Samuel at (202) 586-3279.

Issued in Washington, DC on July 12, 2010.
Carol A. Matthews,
Committee Management Officer.

[FR Doc. 2010-17287 Filed 7-14-10; 8:45 am]

BILLING CODE 6450-01-P